DEPARTMENT OF HOMELAND SECURITY

Federal Emergency Management Agency

44 CFR Part 67

[Docket No. FEMA-B-7751]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before March 5, 2008.

ADDRESSES: The corresponding preliminary Flood Insurance Rate Map (FIRM) for the proposed BFEs for each community are available for inspection at the community's map repository. The respective addresses are listed in the table below.

You may submit comments, identified by Docket No. FEMA-B-7751, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Sonoma County, California and Incorporated Areas
Mount Hood Creek | Approximately 0.38 mile downstream of Sonoma Highway (State Route 12) | None | +468 | City of Santa Rosa.
| At Sonoma Highway (State Route 12) | None | +495
Petaluma River | Approximately 400 feet south of the intersection of South McDowell Boulevard and Cader Lane | None | +10 | City of Petaluma.
Russian River (Area behind Railroad Avenue/Kelly Road levees) | Approximately 1.5 miles downstream of Crocker Road | None | +285 | Unincorporated Areas of Sonoma County.
| Approximately 1,550 feet downstream of Crocker Road | None | +300
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Petaluma
Maps are available for inspection at Petaluma City Hall, 11 English Street, Petaluma, CA.
City of Santa Rosa
Maps are available for inspection at Santa Rosa City Hall, 100 Santa Rosa Avenue, Santa Rosa, CA.
Unincorporated Areas of Sonoma County
Maps are available for inspection at Sonoma County Engineering Division, 2550 Ventura Avenue, Santa Rosa, CA.
Miami-Dade County, Florida and Incorporated Areas
Inland canal and shallow flooding sources | City of Coral Gables | *7-*10 | *7-*15 | City of Coral Gables.
| Town of Cutler Bay | *8-*9 | *7-*9 | Town of Cutler Bay.
| City of Doral | *6-*7 | *5-*8 | City of Doral.
| Village of El Portal | *7 | *6 | Village of El Portal.
| City of Florida City | *9 | *3-*7 | City of Florida City.
| City of Hialeah | *6-*8 | *5-*9 | City of Hialeah.
| City of Hialeah Gardens | *6 | *5-*9 | City of Hialeah Gardens.
| City of Homestead | *4-*10 | *3-*10 | City of Homestead.
| Town of Medley | *6 | *5-*7 | Town of Medley.
| City of Miami | *7-*8 | *4-*15 | City of Miami.
| Miami-Dade County (Unincorporated Areas) | *3-*10 | *3-*21 | Miami-Dade County (Unincorporated Areas).
| Village of Miami-Shores | None | *11 | Village of Miami-Shores.
| City of Miami Springs | *6-*7 | *6-*7 | City of Miami Springs.
| City of North Miami | None | *12 | City of North Miami.
| City of Opa-Locka | *7 | *5-*9 | City of Opa-Locka.
| Village of Palmetto Bay | None | *7 | Village of Palmetto Bay.
| Village of Pinecrest | *10 | *7-*10 | Village of Pinecrest.
| City of South Miami | *9-*10 | *7-*11 | City of South Miami.
| City of Sweetwater | None | *8 | City of Sweetwater.
| Village of Virginia Gardens | *6 | *7 | Village of Virginia Gardens.
The new and revised flood elevations affect extensive inland canal and shallow flooding sources in Miami-Dade County and its incorporated areas. This proposed rule lists the range of new and/or revised elevations affecting the communities listed above. Because the specific changes are too numerous to list, residents and lessees of property in Miami-Dade County and its incorporated areas are strongly encouraged to review the FEMA Flood Insurance Rate Maps at the community offices.
* National Geodetic Vertical Datum.
+ North American Vertical Datum.
# Depth in feet above ground.
Send comments to William R. Blanton, Jr., Chief, Engineering Management Branch, Mitigation Directorate, Federal Emergency Management Agency, 500 C Street, SW., Washington, DC 20472.
ADDRESSES
City of Coral Gables
Maps are available for inspection at the City of Coral Gables Department of Public Works, 2800 Southwest 72nd Avenue, Coral Gables, Florida.
Town of Cutler Bay
Maps are available for inspection at the Cutler Bay Town Hall, 10720 Caribbean Boulevard, Suite 105, Cutler Bay, Florida.
City of Doral
Maps are available for inspection at the City of Doral Building Department, 8300 Northwest 53rd Street, Suite 200, Doral, Florida.
Village of El Portal
Maps are available for inspection at the El Portal Village Hall, 500 Northeast 87th Street, El Portal, Florida.
City of Florida City
Maps are available for inspection at the Florida City Building and Zoning Department, 404 West Palm Drive, Building 3, Florida City, Florida.
City of Hialeah
Maps are available for inspection at the City of Hialeah Planning and Zoning Department, 501 Palm Avenue, 4th Floor, Hialeah, Florida.
City of Hialeah Gardens
Maps are available for inspection at the Hialeah Gardens City Hall, 10001 Northwest 87th Avenue, Hialeah Gardens, Florida.
City of Homestead
Maps are available for inspection at the Homestead City Hall, 790 North Homestead Boulevard, Homestead, Florida.
Town of Medley
Maps are available for inspection at the Medley Town Hall, 7331 Northwest 74th Street, Medley, Florida.
City of Miami
Maps are available for inspection at the City of Miami Fire/Emergency Management Department, Miami Riverside Center, 444 Southwest 2nd Avenue, 10th Floor, Miami, Florida.
Miami-Dade County (Unincorporated Areas)
Maps are available for inspection at the Miami-Dade County Department of Environmental Resource Management, 701 Northwest 1st Court, 4th Floor, Miami, Florida.
Village of Miami-Shores
Maps are available for inspection at the Miami Shores Village Hall, 10050 Northeast 2nd Avenue, Miami Shores, Florida.
City of Miami Springs
Maps are available for inspection at the Miami Springs City Hall, 201 Westward Drive, Miami Springs, Florida.
City of North Miami
Maps are available for inspection at the North Miami City Hall, 776 Northeast 125th Street, North Miami, Florida.
City of Opa-Locka
Maps are available for inspection at the Opa-Locka City Hall, 780 Fisherman Street, Suite 335, Opa-Locka, Florida.
Village of Palmetto Bay
Maps are available for inspection at the Palmetto Bay Village Hall, 8950 Southwest 152nd Street, Palmetto Bay, Florida.
Village of Pinecrest
Maps are available for inspection at the Pinecrest Village Hall, 12645 Pinecrest Parkway, Pinecrest, Florida.
City of South Miami
Maps are available for inspection at the South Miami City Hall, 6130 Sunset Drive, South Miami, Florida.
City of Sweetwater
Maps are available for inspection at the Sweetwater City Hall, 500 Southwest 109th Avenue, Sweetwater, Florida.
Village of Virginia Gardens
Maps are available for inspection at the Virginia Gardens Village Hall, 6498 Northwest 38th Terrace, Virginia Gardens, Florida.
Brown County, Minnesota, and Incorporated Areas
Minnesota River | Approximately 5,530 feet downstream of Dakota, Minnesota, and Eastern Railroad | +805 | +807 | City of New Ulm, Unincorporated Areas of Brown County.
| Approximately 1,673 feet upstream of county boundary | +823 | +825
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of New Ulm
Maps are available for inspection at 100 North Broadway, New Ulm, MN 56073.
Unincorporated Areas of Brown County
Maps are available for inspection at 14 South State Street, New Ulm, MN.
Bertie County, North Carolina, and Incorporated Areas
Cashie River | Approximately 4.0 miles upstream of NC-45 | +8 | +7 | Town of Windsor, Unincorporated Areas of Bertie County.
| Approximately 1,150 feet upstream of the confluence of Cashie River Tributary 5 | None | +79
Indian Creek | At the confluence with Roanoke River | None | +25 | Unincorporated Areas of Bertie County, Town of Lewiston Woodville.
| At the confluence of Jacks Branch | None | +44
Jacks Branch | At the confluence with Indian Creek | None | +44 | Unincorporated Areas of Bertie County, Town of Lewiston Woodville.
| Approximately 0.5 mile downstream of Jack Branch Road (State Route 1119) | None | +53
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Bertie County
Maps are available for inspection at Bertie County Building Inspections Department, 106 Dundee Street, Windsor, NC.
Town of Lewiston Woodville
Maps are available for inspection at Lewiston Woodville Town Hall, 103 West Church Street, Lewiston Woodville, NC.
Town of Windsor
Maps are available for inspection at Town of Windsor Building Inspections Department, 128 South King Street, Windsor, NC.
Jefferson County, Tennessee, and Incorporated Areas
Douglas Lake | Approximately 5,100 feet upstream of confluence of Leadvale Creek | None | +1002 | Unincorporated Areas of Jefferson County, City of Baneberry, Town of Dandridge.
| At Sevier/Jefferson county boundary | None | +1002
Mossy Creek | Approximately 2,200 feet downstream of Russell Avenue | +1073 | +1075 | Unincorporated Areas of Jefferson County, Town of Jefferson City.
| Approximately 1,050 feet downstream of Russell Avenue | +1073 | +1075
* National Geodetic Vertical Datum.
+ North American Vertical Datum.
# Depth in feet above ground.
*** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Baneberry
Maps are available for inspection at 667 Harrison Ferry Road, Baneberry, TN 37890.
Town of Dandridge
Maps are available for inspection at P.O. Box 249, Dandridge, TN 37725.
Town of Jefferson City
Maps are available for inspection at P.O. Box 530, 112 West Broadway Boulevard, Jefferson City, TN 37760
Unincorporated Areas of Jefferson County
Maps are available for inspection at P.O. Box 710, 214 West Main Street, Dandridge, TN 37725.

(Catalog of Federal Domestic Assistance No. 97.022, “Flood Insurance.”)

Dated: November 30, 2007.
David I. Maurstad,
Federal Insurance Administrator of the National Flood Insurance Program, Department of Homeland Security, Federal Emergency Management Agency.

[FR Doc. E7-23706 Filed 12-5-07; 8:45 am]

BILLING CODE 9110-12-P